Proclamation 10667 of October 31, 2023

National Native American Heritage Month, 2023

By the President of the United States of America

A Proclamation

During National Native American Heritage Month, we recognize the invaluable contributions of Native peoples that have shaped our country and honor the hundreds of Tribal Nations who continue exercising their inherent sovereignty as vital members of the overlapping system of governments in the United States. We also recommit to supporting Tribal sovereignty; upholding the Federal Government's solemn trust and treaty responsibilities; and working in partnership with Tribal Nations to advance prosperity, dignity, and safety for all Native peoples.

Since time immemorial, Native communities have passed down rich cultures, knowledge, traditions, and ways of life. But throughout our history, Native peoples' cultures, identities, and governments were not always seen as a part of this Nation but as a threat to it. Native people were pressured to assimilate, banned from practicing their traditions and sacred ceremonies, and forced from their homes and ancestral homelands. This violence and devastation cost countless lives, tore families apart, and caused lasting damage to Tribal communities and institutions.

Despite centuries of violence and oppression, Native peoples remain resilient and proud. Today, Native Americans are essential to the fabric of the United States. They serve in the United States Armed Forces at higher rates than any other ethnic group. They continue to steward so many of our great lands. Their contributions to science, humanities, arts, public service, and more have brought prosperity for all of us. Their diverse cultures and communities continue to thrive and lead us forward.

Since the beginning of my Administration, I have been determined to help champion a new and better chapter in the story of our Nation-to-Nation relationships. I started by appointing Native Americans to lead in my Administration—including the first Native American Secretary of the Interior Deb Haaland, dozens of Senate-confirmed Native American officials, and over 80 Native American appointees serving across my Administration and in the Federal courts. I restored the annual White House Tribal Nations Summit to advance communication between key members of my Administration and the leaders of hundreds of Tribal Nations. My Administration formally recognized Indigenous Knowledge as one of the many important bodies of knowledge that contributes to the scientific, technical, social, and economic advancements of the United States and our collective understanding of the natural world.

Together with leadership from Tribal Nations, we are making historic investments in Indian Country. Our American Rescue Plan invested $32 billion in Tribal Nations—the largest one-time direct investment in Indian Country in American history. Our Bipartisan Infrastructure Law invested more than $13 billion to rebuild infrastructure, the single largest investment in Indian Country infrastructure in history. Our Inflation Reduction Act also made the largest investment ever to combat the existential threat of climate change, including $700 million dedicated to climate change response in Native communities. Last year, I signed a Presidential Memorandum that improves consultation between the Federal Government and Tribal Nations.

My Administration is also working to address the impacts of harmful Federal policies of the past while ensuring Native communities are safe and healthy. Through the Department of the Interior's Road to Healing initiative, Native language preservation, public safety initiatives, and bold new investments, we are supporting Native American families and their communities as they heal. We are also working to improve public health and safety for Native Americans. I signed an Executive Order that helps us respond more effectively to the epidemic of missing and murdered Indigenous peoples. Last year, when we reauthorized the Violence Against Women Act, I was proud to include historic provisions that reaffirm Tribal sovereignty and restore Tribal jurisdiction. My budget for Fiscal Year 2024 also requested a $9.1 billion infusion for the Indian Health Service, and I have asked the Congress to make that funding a mandatory part of the Federal budget for the first time in our history.

We are also committed to partnering with Tribal Nations to protect and steward their sacred and ancestral lands and waters. Through Tribal co-stewardship agreements, we work directly with Tribal Nations to make decisions about how to manage those lands that are most precious to them—recognizing and utilizing the invaluable knowledge they have from countless generations. I established new national monuments protecting lands sacred to Tribal Nations at Baaj Nwaavjo I'tah Kukveni in Arizona, the Camp Hale-Continental Divide in Colorado, and Avi Kwa Ame in Nevada. I also restored protections for the Northeast Canyons and Seamounts Marine National Monument in New England and Bears Ears and Grand Staircase-Escalante in Utah.

This month, we celebrate Native American history and culture. We are reminded that with hard work and a commitment to our founding ideals, we can address the wrongs of our past and become a more perfect Union—one that ensures liberty, justice, dignity, and equality for all.

NOW, THEREFORE, I, JOSEPH R. BIDEN JR., President of the United States of America, by virtue of the authority vested in me by the Constitution and the laws of the United States, do hereby proclaim November 2023 as National Native American Heritage Month. I urge all Americans, as well as their elected representatives at the Federal, State, and local levels, to observe this month with appropriate programs, ceremonies, and activities. Also, I urge all Americans to celebrate November 24, 2023, as Native American Heritage Day.

IN WITNESS WHEREOF, I have hereunto set my hand this thirty-first day of October, in the year of our Lord two thousand twenty-three, and of the Independence of the United States of America the two hundred and forty-eighth.

[FR Doc. 2023-24502

Filed 11-2-23; 8:45 am]

Billing code 3395-F4-P